DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: June 29, 2005 9 a.m.-3:30 p.m., June 30, 2005 9 a.m.-3 p.m.

Place: Hubert H. Humphrey Building, 200 Independence Avenue, SW., Room 705A, Washington, DC 20201.

Status: Open.

Purpose: At this meeting the Committee will hear presentations and hold discussions on several health data policy topics. On the morning of the first day the Committee will hear updates and status reports from the Department on topics including Clinical Data Standards, the Consolidated Health Informatics Initiative, and HIPAA Privacy Rule compliance. They will also discuss drafts of two Committee reports. In the afternoon the Committee will hear an update from the Office of the National Coordinator for Health Information Technology and briefings on the Federal Health Architecture initiative and the Commission on Systemic Interoperability.

On the morning of the second day the Committee will hear an update from the Certification Commission for Healthcare Information Technology (CCHIT) and a presentation by an American National Standards Institute's Healthcare Informatics Standards Board (ANSI HISB) panel. There will also be an update on the National Health Information Infrastructure and public health. In the afternoon, there will be reports from the subcommittees and a discussion of agendas for future Committee meetings.

The times shown above are for the full Committee meetings. Subcommittee breakout sessions are scheduled for late in the afternoon of the first day in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: May 23, 2005.
James Scanlon,
Acting Deputy Assistant Secretary for Science and Data Policy, Office of the Assistant Secretary for Planning and Evaluation.

[FR Doc. 05-10965 Filed 6-1-05; 8:45 am]

BILLING CODE 4151-05-M